DEPARTMENT OF HEALTH AND HUMAN SERVICES

Agency for Healthcare Research and Quality

Agency Information Collection Activities: Proposed Collection; Comment Request

AGENCY: Agency for Healthcare Research and Quality, Department of Health and Human Services (HHS).

ACTION: Request for information (RFI).

SUMMARY: The Agency for Healthcare Research and Quality (AHRQ) requests public comments about the impact and use of Evidence-based Practice Center (EPC) Program evidence reviews. Members of the public include health care delivery organizations, guideline developers, payers, quality measure developers, research funders, and other organizations, including patient organizations, that have used AHRQ EPC evidence reviews.

DATES: Comments must be received by xxxx, 2019.

ADDRESSES: Send responses to epc@ahrq.hhs.gov.

FOR FURTHER INFORMATION CONTACT: The AHRQ EPC Program at epc@ahrq.hhs.gov.

SUPPLEMENTARY INFORMATION: Established in 1997, the mission of the EPC Program (https://effectivehealthcare.ahrq.gov/about/epc) is to create evidence reviews that improve health care by supporting evidence-based decision making by patients, providers, and policymakers. Evidence reviews summarize and synthesize existing literature and evidence using rigorous methods.

Understanding that knowledge synthesis is, by itself, insufficient to change health care practice and improve patient outcomes, the EPC Program has relied on partners who are committed to using these reports. Over the 20 years of its existence, the EPC Program has partnered with clinical professional organizations, federal agencies, and other health care organizations. These organizations have used EPC evidence reviews for a variety of activities, including developing clinical practice guidelines, coverage decisions, program planning, funding opportunities and more.

The EPC Program is committed to innovation and improving the utility of its evidence reviews. AHRQ wants to hear specific details about how organizations and people have used the information from EPC evidence reviews. This is especially important since 2019 is the last fiscal year in which funds appropriated to the Patient-Centered Outcomes Research Trust Fund, which has funded many EPC evidence reviews, will be made available to HHS. Therefore, the EPC Program wants to understand the impact of the AHRQ EPC evidence reviews and the effectiveness of its partnerships.

AHRQ seeks feedback:

• From clinical professional societies or other groups who used AHRQ EPC evidence reviews for developing guidelines

• From payers who used an AHRQ EPC evidence review to make coverage or other decisions

• From health systems who used an AHRQ EPC evidence review to change how health care is practiced or delivered

• From research funders who used an AHRQ EPC evidence review to set a research agenda

• From other organizations including patient organizations that have used AHRQ EPC evidence reviews for various purposes

Specific questions of interest to AHRQ include, but are not limited to:

• How you heard about the AHRQ EPC review

• How you used the AHRQ EPC evidence review

• How the AHRQ EPC evidence review changed your decision, recommendation, or action

• What you would have done in the absence of an EPC report

• Was the AHRQ EPC evidence review acknowledged or referenced in your decision, recommendation, or action? If so, how? And if not, why not?

• Your assessment of the value of the unique contribution provided by AHRQ in conducting evidence reviews for improving patient care and outcomes

• Based on your experiences, suggestions for how the EPC program can make its evidence reviews more useful and impactful

AHRQ is interested in all of the questions listed above, but respondents are welcome to address as many or as few as they choose and to address additional areas of interest not listed.

This RFI is for planning purposes only and should not be construed as a policy, solicitation for applications, or as an obligation on the part of the Government to provide support for any ideas in response to it. AHRQ will use the information submitted in response to this RFI at its discretion, and will not provide comments to any respondent's submission. However, responses to the RFI may be reflected in future solicitation(s) or policies. Respondents are advised that the Government is under no obligation to acknowledge receipt of the information received or provide feedback to respondents with respect to any information submitted. No proprietary, classified, confidential or sensitive information should be included in your response. The Government reserves the right to use any non-proprietary technical information in any resultant solicitation(s). The contents of all submissions will be made available to the public upon request. Submitted materials must be publicly available or able to be made public.

Gopal Khanna,
Director.

[FR Doc. 2019-10451 Filed 5-17-19; 8:45 am]

BILLING CODE 4160-90-P